NUCLEAR REGULATORY COMMISSION

[Docket No. 030-09164]

Environmental Assessment and Finding of No Significant Impact Related to Issuance of a License Amendment of U. S. Nuclear Regulatory Commission Byproduct Material License No. 47-15473-01, Charleston Area Medical Center

I. Summary

The U.S. Nuclear Regulatory Commission (NRC) is considering amending Byproduct Material License No. 47-15473-01 to authorize the release of one of the licensee's facilities located on Pennsylvania Avenue in Charleston, West Virginia, for unrestricted use and has prepared an Environmental Assessment (EA) and Finding of No Significant Impact (FONSI) in support of this action.

The NRC has reviewed the results of the final survey of Laboratory 304 located at 830 Pennsylvania Avenue in Charleston, West Virginia. The Charleston Area Medical Center was authorized by the NRC from August 31, 1995 until the present to use radioactive materials for research and development purposes at the Pennsylvania Avenue facility. The authorization was limited to the in-vitro use of small quantities of Hydrogen-3, Carbon-14, Phosphorous-32, and Iodine-125. In September 2002, the Charleston Area Medical Center ceased operations with licensed materials at the Pennsylvania Street location and requested that it be removed from their materials license as a place of use. The Charleston Area Medical Center has conducted surveys of the facility and determined that the facility meets the license termination criteria in Subpart E of 10 CFR Part 20. The NRC staff has evaluated the Charleston Area Medical Center's request and the results of the surveys, performed a confirmatory survey, and has developed an EA in accordance with the requirements of 10 CFR Part 51. Based on the staff evaluation, the conclusion of the EA is a Finding of No Significant Impact on human health and the environment for the proposed licensing action.

II. Environmental Assessment

Introduction

The Charleston Area Medical Center has requested release, for unrestricted use, of their facility located at Suite 304, 830 Pennsylvania Avenue, in Charleston, West Virginia, as authorized for use by NRC License No. 47-15473-01. This location of use was authorized on August 31, 1995. NRC-licensed activities performed at the Pennsylvania Avenue location were limited to laboratory procedures typically performed on bench tops and in hoods. No outdoor areas were affected by the use of licensed materials. Licensed activities ceased completely in September 2002, and the licensee requested release of the facility for unrestricted use. Based on the licensee's historical knowledge of the site and the condition of the facility, the licensee determined that only routine decontamination activities, in accordance with licensee radiation safety procedures, were required. The licensee surveyed the facility and provided documentation that the facility meets the license termination criteria specified in Subpart E of 10 CFR part 20, “Radiological Criteria for License Termination.”

The Proposed Action

The proposed action is to amend NRC Radioactive Materials License No. 47-15473-01 to release one of the licensee's facilities located at Suite 304, 830 Pennsylvania Avenue, in Charleston, West Virginia, for unrestricted use. By letter dated September 3, 2002, the Charleston Area Medical Center provided survey results which demonstrate that the Pennsylvania Avenue facility in Charleston, West Virginia is in compliance with the radiological criteria for license termination in Subpart E of 10 CFR Part 20, “Radiological Criteria for License Termination.” No further actions or activities are required on the part of the licensee to remediate the facility.

Purpose and Need for the Proposed Action

The purpose of the proposed action is to release the licensee's Pennsylvania Avenue facility for unrestricted use and to remove the location as an authorized place of use from the materials license. This will allow the licensee to make other use of the facility. There is no residual radioactivity remaining at the facility that is distinguishable from background levels. NRC is fulfilling its responsibilities under the Atomic Energy Act to make a decision on a proposed license amendment for release of facilities for unrestricted use that ensures protection of public health and safety and environment.

Alternative to the Proposed Action

The only alternative to the proposed action of amending the license to release the Pennsylvania Avenue facility for unrestricted use is no action. The no-action alternative is not acceptable because it will result in violation of NRC's Timeliness Rule (10 CFR 30.36), which requires licensees to decommission their facilities when licensed activities cease. The licensee does not plan to perform any activities with licensed materials at these locations. Maintaining the area under a license would also reduce options for future use of the property.

The Affected Environment and Environmental Impacts

The licensee's place of use within Laboratory 304 is located in a four story concrete and stucco medical offices building adjacent to the Charleston Area Medical Center's Women and Children's Hospital. The hospital is surrounded by similar type construction office buildings.

The NRC staff has reviewed the surveys performed by the Charleston Area Medical Center to demonstrate compliance with the 10 CFR 20.1402 license termination criteria and has performed a confirmatory survey. Based on its review, the staff has determined that the affected environment and environmental impacts associated with the decommissioning of the Charleston Area Medical Center facility are bounded by the impacts evaluated by the “Generic Environmental Impact Statement in Support of Rulemaking on Radiological Criteria for License Termination of NRC-Licensed Facilities” (NUREG-1496). The staff also finds that the proposed release for unrestricted use of the Charleston Area Medical Center facility is in compliance with 10 CFR 20.1402, “Radiological Criteria for Unrestricted Use.” The NRC has found no other activities in the area that could result in cumulative impacts.

Agencies and Persons Contacted and Sources Used

This Environmental Assessment was prepared entirely by the NRC staff. The U.S. Fish and Wildlife Service was contacted for comment and responded by letter dated December 10, 2002, with no opposition to the action. The West Virginia Division of Culture and History was also contacted and responded by letter dated November 15, 2002, with no opposition.

Conclusion

Based on its review, the NRC staff has concluded that the proposed action complies with 10 CFR Part 20. NRC has prepared this EA in support of the proposed license termination to release the Charleston Area Medical Center facility located at Suite 304, 830 Pennsylvania Avenue, in Charleston, West Virginia, for unrestricted use. On the basis of the EA, NRC has concluded that the environmental impacts from the proposed action are not expected to be significant and has determined that preparation of an environmental impact statement for the proposed action is not required.

List of Preparers

Orysia Masnyk Bailey, Health Physicist, Materials Licensing/Inspection Branch 1, Division of Nuclear Materials Safety, Region II.

List of References

1. NRC License No. 47-15473-01 inspection and licensing records.

2. Charleston Area Medical Center. (License amendment request and supporting documentation) Letter from S. Danak to NRC dated September 3, 2002. (ML022470219)

3. Title 10 Code of Federal Regulations Part 20, Subpart E, “Radiological Criteria for License Termination.”

4. Federal Register notice, Volume 65, No. 114, page 37186, dated Tuesday, June 13, 2000, “Use of Screening Values to Demonstrate Compliance With the Federal Rule on Radiological Criteria for License Termination.”

5. NRC. NUREG-1757 “Consolidated NMSS Decommissioning Guidance,” Final Report dated September 2002.

6. NRC. NUREG 1496 “Generic Environmental Impact Statement in Support of Rulemaking on Radiological Criteria for License Termination of NRC-Licensed Nuclear Facilities,” Final Report dated July 1997.

7. U.S. Fish and Wildlife Service. Letter from J.K. Towner to NRC dated December 10, 2002 (ML023500031).

8. West Virginia Department of Culture and History. Letter from S.M. Pierce to NRC dated November 15, 2002.

III. Finding of No Significant Impact

Based upon the environmental assessment, the staff concludes that the proposed action will not have a significant effect of the quality of the human environment. Accordingly, the staff has determined that preparation of an environmental impact statement is not warranted.

IV. Further Information

The references listed above are available for public inspection and may also be copied for a fee at the NRC's Public Document Room, located at One White Flint North, 11555 Rockville Pike, Rockville, MD 20852. These documents are also available for public review through ADAMS, the NRC's electronic reading room, at: http://www.nrc.gov/reading-rm/adams.htlm. Any questions with respect to this action should be referred to Orysia Masnyk Bailey, Materials Licensing/Inspection Branch 1, Division of Nuclear Materials Safety, U.S. Nuclear Regulatory Commission, Region II, Suite 23T85, 61 Forsyth Street, SW., Atlanta, Georgia, 30303. Telephone 404-562-4739.

Dated at Atlanta, Georgia the 11th day of July, 2003.
For the Nuclear Regulatory Commission.
Douglas M. Collins,
Division of Nuclear Materials Safety, Region II.

[FR Doc. 03-18960 Filed 7-24-03; 8:45 am]

BILLING CODE 7590-01-P